ENVIRONMENTAL PROTECTION AGENCY

[EPA-HQ-OW-2003-0019; FRL-9204-6]

Agency Information Collection Activities; Submission to OMB for Review and Approval; Comment Request; Clean Watersheds Needs Survey (Renewal); EPA ICR No. 0318.12, OMB Control No. 2040-0050

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 22, 2010.

ADDRESSES: Submit your comments, referencing Docket ID No. EPA-HQ-OW-2003-0019, to (1) EPA online using http://www.regulations.gov (our preferred method), by e-mail to OW-Docket@epa.gov, or by mail to: EPA Docket Center, Environmental Protection Agency, Water Docket, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Michael Plastino, Municipal Support Division, Office of Wastewater Management, Environmental Protection Agency, 1200 Pennsylvania Ave., NW., Washington, DC 20460; phone number: 202-564-0682; fax number: 202-501-2397; e-mail address: cwns@epa.gov.

SUPPLEMENTARY INFORMATION: EPA has submitted the following ICR to OMB for review and approval according to the procedures prescribed in 5 CFR 1320.12. On May 26, 2010 (75 FR 29532), EPA sought comments on this ICR pursuant to 5 CFR 1320.8(d). EPA received no comments. Any additional comments on this ICR should be submitted to EPA and OMB within 30 days of this notice.

EPA has established a public docket for this ICR under Docket ID No. EPA-HQ-OW-2003-0019, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov. as EPA receives them and without change, unless the comment contains copyrighted material, confidential business information (CBI), or other information whose public disclosure is restricted by statute. For further information about the electronic docket, go to http://www.regulations.gov.

Title: Clean Watersheds Needs Survey (Renewal).

ICR numbers: EPA ICR No. 0318.12, OMB Control No. 2040-0050.

ICR Status: This ICR is scheduled to expire on January 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Clean Watersheds Needs Survey (CWNS) is required by Clean Water Act (CWA) Sections 205(a) and 516. It is a periodic inventory of existing and projected publicly owned wastewater treatment works (POTWs) and other water pollution control facilities in the United States, as well as an estimate of how many POTWs need to be built. The CWNS is a joint effort of EPA and the States. The Survey records cost and technical data associated with POTWs and other water pollution control facilities, existing and projected, in the United States. The State respondents who provide this information to EPA are State agencies responsible for environmental pollution control. No confidential information is used, nor is sensitive information protected from release under the Public Information Act. EPA achieves national consistency in the final results through the application of uniform guidelines and validation techniques.

Burden Statement: The annual public reporting and recordkeeping burden for this collection of information is estimated to average 1.55 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: 56 States (States, District of Columbia, U.S. Territories) and 5,124 Local Facilities.

Estimated Number of Respondents: 5,180.

Frequency of Response: Every 4 years.

Estimated Total Annual Hour Burden: 9,115.

Estimated Total Annual Cost: $371,066, includes $0 annualized capital or O&M costs.

Changes in the Estimates: There is an increase of 308 hours in the total estimated respondent burden compared with that identified in the ICR currently approved by OMB. This is the net result of a decrease of 52 state burden hours combined with an increase of 360 hours in Local Facility burden hours. Seven states will select the Gap Approach Option, which is projected to decrease burden slightly due to the sampling design (the greater State effort per facility is slightly more than offset by entering data for a sampled portion of facilities rather than for all facilities). For Local Facilities, there is an increased number of facilities that more than offsets the burden saved by switching from a census to a sampling approach.

Dated: September 16, 2010.
John Moses,
Director, Collection Strategies Division.

[FR Doc. 2010-23695 Filed 9-21-10; 8:45 am]

BILLING CODE 6560-50-P